DEPARTMENT OF COMMERCE

International Trade Administration

[A-570-898, A-469-814]

Chlorinated Isocyanurates From the People's Republic of China and Spain: Continuation of Antidumping Duty Orders

AGENCY: Enforcement and Compliance, International Trade Administration, Department of Commerce.

SUMMARY: The U.S. Department of Commerce (Commerce) and the U.S. International Trade Commission (ITC) have determined that revocation of the antidumping duty (AD) orders on chlorinated isocyanurates (chlorinated isos) from the People's Republic of China (China) and Spain would be likely to lead to continuation or recurrence of dumping and material injury to an industry in the United States. Therefore, Commerce is publishing a notice of continuation of these AD orders.

DATES: Applicable February 22, 2023.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On June 24, 2005, Commerce published the AD orders on chlorinated isos from China and Spain.¹ On October 21, 2021, Commerce published the notice of initiation of the third sunset review of the Orders, pursuant to section 751(c) of the Tariff Act of 1930, as amended (the Act).² As a result of its reviews, Commerce determined that revocation of the Orders would likely lead to the continuation or recurrence of dumping.³ Therefore, Commerce notified the ITC of the magnitude of the dumping margins likely to prevail should the Orders be revoked, pursuant to sections 751(c)(1) and 752(c) of the Act. On December 27, 2022, the ITC published its determination, pursuant to section 751(c) of the Act, that revocation of the Orders would likely lead to the continuation or recurrence of material injury to an industry in the United States within a reasonably foreseeable time.⁴

¹ See Chlorinated Isocyanurates from Spain: Notice of Antidumping Duty Order, 70 FR 36562 (June 24, 2005); and Notice of Antidumping Duty Order: Chlorinated Isocyanurates from the People's Republic of China, 70 FR 36561 (June 24, 2005) (collectively, Orders).

² See Initiation of Five-Year (Sunset) Reviews, 86 FR 54423 (October 1, 2021).

³ See Chlorinated Isocyanurates from Spain and the People's Republic of China: Final Results of the Third Expedited Sunset Reviews of the Antidumping Duty Orders, 87 FR 4841 (January 31, 2022), and accompanying Issues and Decision Memorandum.

⁴ See Chlorinated Isocyanurates from China and Spain, 87 FR 79353 (December 27, 2022).

Scope of the Orders

The products covered by the Orders are chlorinated isos, which are derivatives of cyanuric acid, described as chlorinated s-triazine triones. There are three primary chemical compositions of chlorinated isos: (1) trichloroisocyanuric acid (Cl3(NCO)3); (2) sodium dichloroisocyanurate (dehydrate) (NaCl2(NCO)3(2H2O); and (3) sodium dichloroisocyanurate (anhydrous) (NaCl2(NCO)3). The Orders cover all chlorinated isos. Chlorinated isos are currently classifiable under subheadings 2933.69.6015, 2933.69.021, 2933.69.6050, 3808.40.5000, 3808.50.4000 and 3808.94.5000 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isos and other compounds including an unfused triazine ring. Although the HTSUS subheadings are provided for convenience and customs purposes, the written description of the scope of the Orders is dispositive.

Continuation of the Orders

As a result of the determinations by Commerce and the ITC that revocation of the Orders would likely lead to continuation or recurrence of dumping, and material injury to an industry in the United States, pursuant to section 751(d)(2) of the Act and 19 CFR 351.218(a), Commerce hereby orders the continuation of the Orders on chlorinated isos from China and Spain. U.S. Customs and Border Protection will continue to collect AD cash deposits at the rates in effect at the time of entry for all imports of subject merchandise.

The effective date of continuation of the Orders will be the date of publication in the Federal Register of this notice of continuation. Pursuant to section 751(c)(2) of the Act, Commerce intends to initiate the next five-year reviews of the Orders not later than 30 days prior to the fifth anniversary of the effective date of continuation.

Administrative Protective Order (APO)

This notice also serves as the only reminder to parties subject to an APO of their responsibility concerning the return or destruction of proprietary information disclosed under APO in accordance with 19 CFR 351.305(a)(3). Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: February 14, 2023.
Lisa W. Wang,
Assistant Secretary for Enforcement and Compliance.

[FR Doc. 2023-03652 Filed 2-21-23; 8:45 am]

BILLING CODE 3510-DS-P